DEPARTMENT OF DEFENSE

Office of the Secretary

Notice of Intent To Prepare an Environmental Impact Statement (EIS) for the Continental United States Interceptor Site (CIS)

AGENCY: Missile Defense Agency, Department of Defense.

ACTION: Notice of intent.

SUMMARY: The Missile Defense Agency (MDA) announces its intention to prepare an Environmental Impact Statement (EIS) in accordance with the National Environmental Policy Act (NEPA) of 1969 and the Council on Environmental Quality Regulations for Implementing the Procedural Provisions of NEPA. As required by the 2013 National Defense Authorization Act, the MDA has selected possible additional locations in the United States that would be best suited for future deployment of an interceptor capable of protecting the homeland against threats from nations, such as North Korea and Iran. The MDA is preparing this EIS to evaluate the potential environmental impacts that could result from the future deployment of the Continental United States Interceptor Site (CIS). The existing Ballistic Missile Defense System (BMDS) provides protection of the United States from a limited ballistic missile attack, and the Department of Defense has not made a decision to deploy or construct the CIS.

DATES: The MDA invites public comments on the scope of the CIS EIS during a 60-day public scoping period beginning with publication of this notice in the Federal Register. Comments will be accepted on or before September 15, 2014.

ADDRESSES: Written comments, statements, and/or concerns regarding the scope of the EIS or requests to be added to the EIS distribution list should be addressed to MDA CIS EIS and sent by email to MDA.CIS.EIS@BV.COM, by facsimile 913-458-1091, or by U.S. Postal Service to: Black & Veatch Special Projects Corp Attn: MDACIS EIS, 6601 College Boulevard, Overland Park, KS 66211-1504. Electronic or facsimile comments are preferred. If sending comments by U.S. Postal Service, please do not submit duplicate electronic or facsimile comments. All comments, including names and addresses, will be submitted to the administrative record.

FOR FURTHER INFORMATION CONTACT: Mr. Rick Lehner, MDA Public Affairs, at 571-231-8210, or by email: mda.info@mda.mil.

SUPPLEMENTARY INFORMATION: In accordance with 40 Code of Federal Regulations (CFR) 1501.6, an invitation for cooperating agency status has been extended to the U.S. Department of the Army and Navy and National Guard for consultation, review, and comment on the EIS. Other cooperating agencies may be identified during the scoping process.

If deployed, the CIS would be an extension of the existing Ground-based Midcourse Defense (GMD) element of the BMDS. Under the current proposed action, the deployment of the CIS would be as a contiguous Missile Defense Complex, similar to that found at Fort Greely, Alaska and would consist of an initial deployment of 20 Ground-based Interceptors (GBIs) with the ability to expand upward to 60 GBIs. The GBIs would not be fired from their deployment site except in the Nation's defense and no test firing would be conducted at the CIS. The overall system architecture and baseline requirements for a notional CIS include, but are not limited to, the GBI fields, Command Launch Equipment, In-Flight Interceptor Communication System Data Terminals, GMD Communication Network, supporting facilities, such as lodging and dining, recreation, warehouse and bulk storage, vehicle storage and maintenance, fire station, hazardous materials/waste storage, and roads and parking where necessary.

Alternatives to be analyzed include the No-Action Alternative and sites at the Combined Training Center Fort Custer—Michigan Army National Guard, Augusta, MI; Camp Ravenna Joint Military Training Center—Ohio Army National Guard, Portage and Trumbull Counties, OH; Fort Drum Army Base, Fort Drum, NY; and the Center for Security Forces Detachment Kittery Survival, Evasion, Resistance, and Escape Facility (SERE East), Redington Township, ME. At each site, impacts will be assessed for the following resource categories—air quality, air space, biological, cultural, geology and soils, hazardous materials and hazardous waste management, health and safety, land use, noise, socioeconomics, transportation, utilities, water quality, wetlands, visual and aesthetic, environmental justice, and subsistence.

The MDA encourages all interested members of the public, as well as federal, state, and local agencies to participate in the scoping process for the preparation of this EIS. The scoping process assists in determining the scope of issues to be addressed and helps identify significant environmental issues to be analyzed in depth in the EIS.

Scoping meetings will be held in the local communities of Ravenna, OH; Galesburg and Battle Creek, MI; Carthage, NY; and Rangeley and Farmington, ME, during July through September 2014. Notification of the meeting locations, dates, and times will be published and announced in local news media prior to public scoping meetings.

Dated: July 10, 2014.
Aaron Siegel,
Alternate OSD Federal Register Liaison Officer, Department of Defense.

[FR Doc. 2014-16629 Filed 7-15-14; 8:45 am]

BILLING CODE 5001-06-P